DEPARTMENT OF THE INTERIOR

Bureau of Land Management

[LLUT921000-09-5101-ER-J108; UTU-79766, NVN-82385]

Notice of Availability of the Final Environmental Impact Statement for the UNEV Refined Liquid Petroleum Products Pipeline in Utah and Nevada and the Proposed Amendment of the Pony Express Resource Management Plan

AGENCY: Bureau of Land Management, Interior.

ACTION: Notice of availability.

SUMMARY: In accordance with the National Environmental Policy Act of 1969, as amended, the Federal Land Policy and Management Act of 1976, and the Mineral Leasing Act of 1920, as amended, the Bureau of Land Management (BLM) has prepared a Proposed Resource Management Plan Amendment (RMPA)/Final Environmental Impact Statement (EIS) for the UNEV Refined Liquid Petroleum Products Pipeline and by this notice is announcing its availability.

DATES: BLM planning regulations at 43 CFR 1610.5-2 state that any person who meets the described conditions may protest the BLM's Proposed RMPA/Final EIS. Such protest must be filed within 30 days of the date that the Environmental Protection Agency publishes its notice of availability of this FEIS in the Federal Register.

ADDRESSES: Copies of the UNEV Refined Liquid Petroleum Products Pipeline and Pony Express Proposed RMPA/Final EIS have been sent to affected Federal, state, and local government agencies and to other stakeholders, including the Moapa Band of the Paiute Tribe, the Paiute Indian Tribe of Utah, the Uintah and Ouray Ute Indian Tribe, the Kaibab Paiute Indian Tribe, and other Native American Tribes that were consulted as part of this process. Copies of the Proposed RMPA/Final EIS are available for public inspection at the Utah State Office, 440 West 200 South, Suite 500, Salt Lake City, Utah 84101; the Salt Lake Field Office, 2370 South 2300 West, Salt Lake City, Utah 84119; the Fillmore Field Office, 35 East 500 North, Fillmore, Utah 84631; the Cedar City Field Office, 176 East D.L. Sargent Drive, Cedar City, Utah 84721; the St. George Field Office, 345 East Riverside Drive, St. George, Utah 84790; the Nevada State Office, 1340 Financial Boulevard., Reno, Nevada 89502; the Ely District Office, 702 North Industrial Way, Ely, Nevada 89301; and the Las Vegas Field Office, 4701 North Torrey Pines Drive, Las Vegas, Nevada 89130. Interested persons may also review the Proposed RMPA/Final EIS at the following Web site: http://www.blm.gov/ut/st/en/prog/more/lands_and_realty/major_projects/unev_pipeline_eis.html. All protests must be in writing and mailed to one of the following addresses:

Regular mail | Overnight mail
BLM Director (210), Attention: Brenda Williams, P.O. Box 66538, Washington, DC 20035 | BLM Director (210), Attention: Brenda Williams, 1620 L Street, NW., Suite 1075, Washington, DC 20036.

FOR FURTHER INFORMATION CONTACT: For further information contact Joe Incardine, National Project Manager, by telephone at (801) 524-3833; by mail at BLM Utah State Office, P.O. Box 45155, Salt Lake City, Utah 84145-0155; or by e-mail at Joe_Incardine@blm.gov.

SUPPLEMENTARY INFORMATION: The Proposed RMPA/Final EIS was prepared by the BLM in consultation with cooperating agencies, Tribes, and the public. UNEV is proposing to construct and operate a 400-mile long, 12-inch diameter refined liquid petroleum products pipeline that would originate in Woods Cross, Utah, with terminals northwest of Cedar City, Utah, and near Apex, Nevada. The southernmost 150 miles of the pipeline alignment would generally follow the existing Kern River pipeline corridor. Project elements would be located in Davis, Salt Lake, Tooele, Juab, Millard, Beaver, Iron, and Washington Counties in Utah; and Lincoln and Clark Counties in Nevada. The pipeline would also cross the Reservation of the Moapa Band of the Paiute Tribe in southern Nevada. Permanent facilities would include access roads to all above-ground structures (including valves, pipeline surface access points, and receiving equipment). Temporary facilities would include construction and equipment storage yards and extra workspace for pipe assembly.

The document proposes to amend the Pony Express Resource Management Plan so that it would be consistent with the grant of a right-of-way for a major pipeline. The proposed amendment would also establish a new utility corridor to accommodate a portion of the proposed pipeline right-of-way on lands administered by the BLM Salt Lake Field Office. The right-of-way would be 100-feet wide, 50 feet on either side of the centerline of the proposed pipeline. From Milepost 50 through the Tooele County-Juab County boundary, on BLM-administered lands only, the right-of-way would be within a newly established 3,960 feet wide (0.75 miles) corridor administered by the Salt Lake Field Office. The remainder of the right-of-way on BLM-administered lands would be consistent with the RMPs regulating activities on those lands so no other RMP amendments are needed. There are four Action Alternatives to the Proposed Action. These include the Airport, Tooele County, Rush Lake, and Millard County Alternatives. Each of these alternatives would essentially re-route a portion of the Proposed Action alignment to address various resource concerns or to respond to local issues that were raised during public scoping.

The Preferred Alternative remains the same as identified in the Draft RMPA/Draft EIS published on December 19, 2008. The Preferred Alternative as identified by the BLM incorporates each of the alternative alignments identified for the Airport, Tooele County, Rush Lake, and Millard County Alternatives into the Proposed Action alignment. Comments on the Draft RMPA/Draft EIS received from the public and internal BLM review were considered and incorporated, as appropriate, into the Proposed RMPA/Final EIS. Public comments resulted in the addition of clarifying text, but did not significantly change proposed land use plan decisions.

Instructions for filing a protest with the Director of the BLM regarding the Proposed RMPA/Final EIS may be found in the “Dear Reader Letter” of the UNEV Liquid Petroleum Products Pipeline and Pony Express Proposed RMPA/Final EIS and at 43 CFR 1610.5-2. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at (202) 912-7212, and e-mails to Brenda_Hudgens-Williams@blm.gov.

All protests, including the follow-up letter to e-mails or faxes, must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6, 1506.10, 43 CFR 1610.2, and 1610.5-2.

Selma Sierra,
Utah State Director.

[FR Doc. 2010-8625 Filed 4-15-10; 8:45 am]

BILLING CODE 4310-DQ-P